FEDERAL COMMUNICATIONS COMMISSION

[FR ID 88631]

Federal Advisory Committee Act; Communications Security, Reliability, and Interoperability Council

AGENCY: Federal Communications Commission.

ACTION: Notice of public meeting.

SUMMARY: In accordance with the Federal Advisory Committee Act, this notice advises interested persons that the Federal Communications Commission's (Commission) Communications Security, Reliability, and Interoperability Council (CSRIC) VIII will hold its fourth meeting on June 15, 2022 at 1:00 p.m. EDT.

DATES: June 15, 2022.

ADDRESSES: The Meeting will be held via conference call and available to the public via WebEx at http://www.fcc.gov/live.

FOR FURTHER INFORMATION CONTACT: Suzon Cameron, Designated Federal Officer, Federal Communications Commission, Public Safety and Homeland Security Bureau, (202) 418-1916 or email: suzon.cameron@fcc.gov, or Kurian Jacob, Deputy Designated Federal Officer, Federal Communications Commission, Public Safety and Homeland Security Bureau, (202) 418-2040 or email: kurian.jacob@fcc.gov.

SUPPLEMENTARY INFORMATION: While the notice of this meeting will not publish in the Federal Register in time to meet the 15-day requirement for advance publication, exceptional circumstances warrant proceeding with the June 15, 2022, CSRIC VIII meeting. CSRIC VIII members were informed of the June 15th meeting at the March 30, 2022, public meeting of the Council, and have been informed informally of the June meeting date on more than one occasion both before and since then. In addition, the meeting date has been posted on the CSRIC VIII website for several months. A significant number of Council members have made plans in accordance with this schedule, and there is no date within one month of the planned date that will accommodate Council members' schedules. The meeting on June 15, 2022, at 1:00 p.m. EDT, will be held electronically only and may be viewed live, by the public, at http://www.fcc.gov/live. Any questions that arise during the meeting should be sent to CSRIC@fcc.gov and will be answered at a later date. The meeting is being held in a wholly electronic format in light of travel and gathering restrictions related to COVID-19 in place in Washington, DC, and the larger U.S., which affect members of CSRIC and the Commission.

The CSRIC is a Federal Advisory Committee that will provide recommendations to the Commission to improve the security, reliability, and interoperability of communications systems. On June 30, 2021, the Commission, pursuant to the Federal Advisory Committee Act, renewed the charter for CSRIC VII for a period of two years through June 29, 2023. The meeting on June 15, 2022, will be the fourth meeting of CSRIC VIII under the current charter.

The Commission will provide audio and/or video coverage of the meeting over the internet from the FCC's web page at http://www.fcc.gov/live. The public may submit written comments before the meeting to Suzon Cameron, CSRIC VIII Designated Federal Officer, by email to CSRIC@fcc.gov.

Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way the Commission can contact you if it needs more information. Please allow at least five days' advance notice; last-minute requests will be accepted but may be impossible to fill.

Federal Communications Commission.
Sheryl Todd,
Deputy Secretary, Office of the Secretary.

[FR Doc. 2022-12475 Filed 6-9-22; 8:45 am]

BILLING CODE 6712-01-P